DEPARTMENT OF HOMELAND SECURITY

Transportation Security Administration

[Docket No. TSA-2004-19147]

Revision of Agency Information Collection Activity Under OMB Review: Flight Training Security

AGENCY: Transportation Security Administration, DHS.

ACTION: 30-Day notice.

SUMMARY: This notice announces that the Transportation Security Administration (TSA) has forwarded the Information Collection Request (ICR), Office of Management and Budget (OMB) control number 1652-0021, abstracted below to OMB for review and approval of a revision of the currently approved collection under the Paperwork Reduction Act (PRA). The ICR describes the nature of the information collection and its expected burden. The collection involves the submission of identifying information for background checks for all non-U.S. citizens, non-U.S. nationals and other designated individuals seeking flight instruction (“candidates”) from Federal Aviation Administration (FAA)-certificated flight training providers. Through the information collected, TSA will determine whether a candidate is a threat to aviation or national security, and thus prohibited from receiving flight training. Additionally, flight training providers are required to conduct a security awareness program for their employees and contract employees and to maintain records associated with this training.

DATES: Send your comments by February 18, 2022. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” or by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on August 25, 2021, 86 FR 47507.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Flight Training Security.

Type of Request: Revision of a currently approved collection.

OMB Control Number: 1652-0021.

Forms(s): N/A.

Affected Public: Candidates, as defined in 49 CFR 1552.1, seeking flight instruction from FAA-certificated flight training providers and flight training providers required to conduct security awareness training and their employees.

Abstract: This information collection relates to regulations issued by TSA for flight training providers. There are two parts to the collection. First, under 49 CFR part 1552, subpart A, the collection relates to the security threat assessments (STAs) that TSA requires to determine whether candidates are a threat to aviation or national security, and thus prohibited from receiving flight training. This collection of information requires FAA-certificated flight training providers to provide TSA with the information necessary to conduct the STAs. Second, under 49 CFR part 1552, subpart B, the collection relates to security awareness training for flight training provider employees and contract employees, which includes maintaining records of all such training.

TSA is revising the information collection by changing the name of the collection from “Flight Training for Aliens and Other Designated Individuals; Security Awareness Training for Flight School Employees” to “Flight Training Security.”

Number of Respondents: 39,496.

Estimated Annual Burden Hours: An estimated 103,816 hours annually.¹

¹ Since the publication of the 60-day notice, TSA has updated the burden hours from 99,564 to 103,816 annual hours.

Estimated Annual Cost Burden: $7,018,816.

Dated: January 10, 2022.
Christina A. Walsh,
TSA Paperwork Reduction Act Officer, Information Technology.

[FR Doc. 2022-00894 Filed 1-18-22; 8:45 am]

BILLING CODE 9110-05-P